DEPARTMENT OF HEALTH AND HUMAN SERVICES

Centers for Disease Control and Prevention

[60Day-17-17CQ]

Proposed Data Collection Submitted for Public Comment and Recommendations—Zika Virus Associated Neurologic Illness Case Control Study; Correction

AGENCY: Centers for Disease Control and Prevention (CDC), Department of Health and Human Services (HHS).

ACTION: Notice; correction.

SUMMARY: The Centers for Disease Control and Prevention (CDC) published a document in the Federal Register of November 17, 2016, concerning request for comments on Proposed Data Collection Submitted for Public Comment and Recommendations—Zika Virus Associated Neurologic Illness Case Control Study. The document provided the incorrect agency identification number (60Day-17-17ZQ).

FOR FURTHER INFORMATION CONTACT: Leroy Richardson, 1600 Clifton Road, MS D-74, Atlanta, GA 30333; telephone (404) 639-4965; email: omb@cdc.gov.

Correction

In the Federal Register of November 17, 2016, in FR Doc. 2016-27692, on page 81143, in the first column (first heading), correct the agency identification number to read:

[60Day-17-17CQ; Docket No. CDC-2016-0107]

Dated: November 17, 2016.
Leroy A. Richardson,
Chief, Information Collection Review Office, Office of Scientific Integrity, Office of the Associate Director for Science, Office of the Director, Centers for Disease Control and Prevention.

[FR Doc. 2016-28072 Filed 11-21-16; 8:45 am]

BILLING CODE 4163-18-P